DEPARTMENT OF AGRICULTURE

Forest Service

RIN 0596-AC18

Watershed Forestry Assistance Program

AGENCY: Forest Service, USDA.

ACTION: Advanced notice of interim final guideline; request for comment.

SUMMARY: The Forest Service is announcing its intent to prepare an interim final guideline, in cooperation with the State Foresters and with involvement of the public, for the implementation of the Watershed Forestry Assistance Program, as authorized by Title III, section 302, of the Healthy Forests Restoration Act of 2003 (Pub. L. 108-148). The Watershed Forestry Assistance Program (WFAP) is administered by the Forest Service and implemented by the State Foresters, or an equivalent State official. The purpose of the WFAP is to improve public understanding of the connection between forest management and watershed health; encourage property owners to maintain tree cover and use tree plantings and vegetative treatments as creative solutions to watershed problems; enhance forest management and riparian buffer use in watersheds, with an emphasis on community watersheds; and establish partnerships and collaborative watershed approaches to forest management, protection, and conservation. Public comment is invited and will be considered in the development of the interim final guideline. Additional direction on the implementation of WFAP will be issued to the Forest Service Manual Chapter 3500, Cooperative Watershed Management.

DATES: Comments must be received by July 26, 2004.

ADDRESSES: Send written comments to Karen Solari, USDA Forest Service, Cooperative Forestry, Mail Stop Code 1123, 1400 Independence Avenue, SW., Washington, DC 20250-0003; via electronic mail to ksolari@fs.fed.us; or via facsimile to (202) 205-1271. Comments also may be submitted via the World Wide Web/Internet at http://www.regulations.gov. The agency cannot confirm receipt of comments. All comments, including names and addresses when provided, are placed in the record and are available for public inspection and copying. The public may inspect comments during regular business hours at the office of the Cooperative Forestry Staff, 4th Floor SE., Yates Building, 201 14th Street, SW., Washington, DC. Visitors are encouraged to call ahead to (202) 205-1389 to facilitate entry into the building.

FOR FURTHER INFORMATION CONTACT: Karen Solari, USDA Forest Service, Cooperative Forestry, (202) 205-1274.

SUPPLEMENTARY INFORMATION: The Watershed Forestry Assistance Program (WFAP) is established in the Healthy Forests Restoration Act of 2003 to address watershed issues on nonfederal forested and potentially forested land. A copy of the Healthy Forests Restoration Act of 2003, Title III, and other information on the watershed forestry program can be found at: http://www.fs.fed.us/cooperativeforestry/programs/wfa/. The WFAP provides for (1) development of a program of technical assistance; (2) establishment of a watershed forestry cost-share program; (3) creation of State watershed forester positions; and (4) selection of priority watersheds by the state forest stewardship coordinating committees. At a minimum, the WFAP interim final guideline will address these provisions.

In addition, the WFAP interim final guideline will establish the criteria that State Foresters and communities, nonprofit groups, and owners of nonindustrial private forest land should follow in implementing the WFAP. These will include criteria for priority watershed selection, acceptable watershed forest projects, and best management practice programs. The guideline also will establish budget allocation procedures and monitoring and accomplishment reporting requirements. The guideline will, to the extent consistent with Federal accountability and oversight responsibility, allow flexibility to the States to implement the program in a manner consistent with local needs and opportunities. Comments are solicited on these provisions and other issues that should be included in the interim final guideline.

The interim final guideline and additional direction issued to Forest Service Manual 3500 will be developed by a workgroup of representatives from State forestry agencies and regional and national Forest Service State and Private Forestry offices and USDA Cooperative State Research Education and Extension Service.

The agency goal is to publish a notice of issuance of the interim final guideline with request for further comment in the Federal Register by October 2004. A separate notice of an interim final guideline for the Tribal Watershed Forestry Assistance Program, to be developed in cooperation with Indian tribes, has been published in today's Federal Register.

Dated: May 6, 2004.
Sally Collins,
Associate Chief.

[FR Doc. 04-11734 Filed 5-24-04; 8:45 am]

BILLING CODE 3410-11-P